DEPARTMENT OF JUSTICE

Notice of Extension of Public Comment Period for Proposed Consent Decree Under the Comprehensive Environmental Response, Compensation, and Liability Act

On December 11, 2019, the Department of Justice filed a complaint and lodged a proposed Consent Decree with the United States District Court for the Western District of Michigan in the lawsuit entitled United States of America and the State of Michigan v. NCR Corporation, Civil Action No. 1:19-cv-01041.

The United States, on behalf of the United States Environmental Protection Agency (“EPA”), and the State of Michigan (the “State”), on behalf of the Michigan Department of Environment, Great Lakes, and Energy (“EGLE”), filed suit against NCR Corporation (“NCR”) under the Comprehensive Environmental Response, Compensation, and Liability Act (“CERCLA”) for the recovery of response costs and the performance of response work at the Allied Paper, Inc./Portage Creek/Kalamazoo River Superfund Site in Michigan (the “Site”). Under the terms of the Consent Decree, NCR will perform an estimated $135.7 million in cleanup work on the Kalamazoo River and the adjacent banks and floodplains. NCR also will pay $76.5 million to EPA and $6 million to the State for past and future Site response costs. Further, NCR will pay $27 million dollars to the Kalamazoo River Natural Resources Trustee Council for natural resources damages and assessment costs. The Kalamazoo River Natural Resources Trustee Council includes both state and federal trustees. The federal trustees include the United States Department of Interior (acting through the Fish and Wildlife Service) and the Department of Commerce (acting through the National Oceanic and Atmospheric Administration). The state trustees include EGLE, the Michigan Department of Natural Resources, and the Michigan Department of the Attorney General. The Consent Decree therefore provides a total estimated value of more than $245 million for cleanup work and payments.

Notice of the lodging of the proposed Consent Decree was originally published in the Federal Register on December 17, 2019. See 84 FR 242 (Dec. 17, 2019). The publication of the original notice opened a 30-day period for public comment on the proposed Consent Decree that was scheduled to end on January 16, 2020. The publication of the current notice extends the period for public comment on the Consent Decree to February 18, 2020.

Comments should be addressed to the Assistant Attorney General, Environment and Natural Resources Division, and should refer to United States of America and the State of Michigan v. NCR Corporation, D.J. Ref. No. 90-11-2-07912/11. All comments must be submitted no later than February 18, 2020. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $57.25 (25 cents per page reproduction cost) payable to the United States Treasury.

Randall M. Stone,
Acting Assistant Section Chief, Environmental Enforcement Section, Environment and Natural Resources Division.

[FR Doc. 2019-28473 Filed 1-3-20; 8:45 am]

BILLING CODE 4410-15-P